COMMISSION ON CIVIL RIGHTS

Agenda and Notice of Public Meeting of the South Dakota Advisory Committee

Notice is hereby given, pursuant to the provisions of the rules and regulations of the U.S. Commission on Civil Rights (Commission), and the Federal Advisory Committee Act (FACA), that a planning meeting of the South Dakota Advisory Committee to the Commission will convene by conference call at 1 p.m. and end at 3 p.m. on Tuesday, September 28, 2010. The purpose of the meeting is for the committee to discuss recent Commission and regional activities and current civil rights issues in the State and plan future activities.

This conference call is available to the public through the following call-in number: 1-800-516-9896, access code: 8334. Any interested member of the public may call this number and listen to the meeting. Callers can expect to incur charges made over wireless lines, and the Commission will not refund those charges incurred. Callers will incur no charge for calls using the call-in number over land-line connections. Persons with hearing impairments may also follow the proceedings by first calling the Federal Relay Service at 1-800-977-8339 and providing the Service with the conference call number and access code number.

To ensure that the Commission secures an appropriate number of lines for the public, persons are asked to register by contacting the Rocky Mountain Regional Office at least ten (10) working days before the scheduled meeting date.

Members of the public are entitled to submit written comments; the comments must be received in the regional office by October 28, 2010. The address is Rocky Mountain Regional Office, 999-18th Street, Suite 1380 South, Denver, CO 80202; (303) 866-1040. Comments may be e-mailed to ebohor@usccr.gov. Records generated by this meeting may be inspected and reproduced at the Rocky Mountain Regional Office, as they become available, both before and after the meeting. Persons interested in the work of this advisory committee are advised to go to the Commission's Web site, http://www.usccr.gov, or to contact the Rocky Mountain Regional Office at the above e-mail or street address.

The meeting will be conducted pursuant to the provisions of the rules and regulations of the Commission and FACA.

Dated in Washington, DC, on September 10, 2010.
Peter Minarik,
Acting Chief, Regional Programs Coordination Unit.

[FR Doc. 2010-22995 Filed 9-14-10; 8:45 am]

BILLING CODE 6335-01-P